ARCHITECTURAL AND TRANSPORTATION BARRIERS COMPLIANCE BOARD

36 CFR Parts 1190 and 1191

RIN 3014-AA22

Emergency Transportable Housing Advisory Committee

AGENCY: Architectural and Transportation Barriers Compliance Board.

ACTION: Notice of meeting.

SUMMARY: The Architectural and Transportation Barriers Compliance Board (Access Board) has established an advisory committee to make recommendations for possible revisions to the Americans with Disabilities Act (ADA) and Architectural Barriers Act (ABA) Accessibility Guidelines to include provisions for emergency transportable housing. This notice announces the dates, time, and location of the next in-person committee meeting and a committee conference call.

DATES: The conference call is scheduled for February 14, 2008 from 10 a.m. to Noon (Eastern time); the in-person meeting is scheduled from 10 a.m. to 5 p.m. on March 27 and from 9 a.m. to 5 p.m. on March 28.

ADDRESSES: Individuals can participate in the conference call on February 14, 2008 by dialing the teleconference number which will be posted on the Access Board's Web site (http://www.access-board.gov/eth/). The in-person meeting will be held at the Access Board's offices, 1331 F Street, NW., Suite 1000, Washington, DC.

FOR FURTHER INFORMATION CONTACT: Marsha Mazz, Office of Technical and Information Services, Architectural and Transportation Barriers Compliance Board, 1331 F Street, NW., Suite 1000, Washington, DC 20004-1111. Telephone number (202) 272-0020 (Voice); (202) 272-0082 (TTY). These are not toll-free numbers. E-mail address: mazz@access-board.gov.

SUPPLEMENTARY INFORMATION: On August 23, 2007, the Architectural and Transportation Barriers Compliance Board (Access Board) established an advisory committee to make recommendations for possible revisions to the Americans with Disabilities Act (ADA) and Architectural Barriers Act (ABA) Accessibility Guidelines to include provisions for emergency transportable housing (72 FR 48251; August 23, 2007).

The committee will hold a conference call on February 14 from 10 a.m. to Noon (Eastern time) to discuss definitional issues. The agenda, instructions (including information on captioning), and dial-in telephone number for the conference call is available on the Access Board's Web site (http://www.access-board.gov/eth/). The conference call is open to the public and interested persons can dial in and communicate their views during a public comment period scheduled during the conference call. Participants may call in from any location of their choosing.

The next in-person committee meeting will take place from 10 a.m. to 5 p.m. on March 27 and from 9 a.m. to 5 p.m. on March 28. It will focus on outstanding issues which have not yet been resolved. The preliminary meeting agenda, along with information about the committee, is available at the Access Board's Web site (http://www.access-board.gov/eth/). Committee meetings are open to the public and interested persons can attend the meetings and communicate their views. Members of the public will have opportunities to address the committee on issues of interest to them during public comment periods scheduled on each day of the meeting.

The in-person meeting site is accessible to individuals with disabilities. Individuals who require sign language interpreters, real-time captioning, or materials in alternate formats should contact Marsha Mazz by March 6. Also, persons wishing to provide handouts or other written information to the committee are requested to provide them in an electronic format to Marsha Mazz preferably by e-mail so that alternate formats such as large print can be distributed to committee members. Persons attending the in-person meeting are requested to refrain from using perfume, cologne, and other fragrances for the comfort of other participants.

Lawrence W. Roffee,
Executive Director.

[FR Doc. E8-1894 Filed 1-31-08; 8:45 am]

BILLING CODE 8150-01-P